DEPARTMENT OF ENERGY

Scoping Meetings for Radioisotope Thermoelectric Generator Relocation Environmental Assessment (EA)

AGENCY: Department of Energy.

ACTION: Notice of Intent.

SUMMARY: Pursuant to the National Environmental Policy Act (NEPA), the Department of Energy (DOE, the Department) is announcing its intent to prepare an Environmental Assessment (EA) to assess the environmental impacts related to determining the future location of the Department's Heat Source/Radioisotope Power System (HS/RPS) assembly and test operations. The HS/RPS operations include those identified as HS/Radioisotope Thermoelectric Generator (HS/RTG) operations in prior NEPA documents. These activities are currently conducted at the Mound site near Miamisburg, Ohio. The EA will evaluate continuation of the HS/RPS operations in the currently used facilities (the No Action alternative) or alternative facilities at the Mound site. Alternative sites to be evaluated in the EA include the Pantex Plant (Pantex), near Amarillo, Texas, and the Argonne National Laboratory-West located on the Idaho National Engineering and Environmental Laboratory site, near Idaho Falls, Idaho. Any other reasonable site(s) identified during the scoping will also be evaluated in the EA. This EA will be prepared in accordance with the Council on Environmental Quality's NEPA Implementing Regulations at 40 CFR parts 1500, 1501, 1502, 1503, 1504, 1505, 1506, 1507, and 1508, and the Department's NEPA Implementing Procedures at 10 CFR part 1021.

The potential relocation of the HS/RTG assembly and test operations was previously evaluated in 1998. The Department issued a Notice of Intent (NOI) to prepare an Environmental Impact Statement (EIS) in the Federal Register on October 2, 1998. While the draft EIS was under preparation, the Department determined that no benefit would result from relocation of the HS/RPS mission and consolidated operations in an optimum configuration at the Mound site. The potential environmental impacts of these consolidation activities at the Mound site were assessed in the Environmental Assessment for the Consolidation of Heat Source/Radioisotope Thermoelectric Generator (HS/RTG) Assembly and Testing Operations at Mound (DOE/EA-1343, April 2000). As explained in the supplementary information below, in consideration of the events of September 11, 2001, the Department now considers it appropriate to review the location of the HS/RPS operations in the context of new requirements. The information gathered during preparation of the aforementioned EA revealed the absence of any significant impacts due to the HS/RPS activities. Therefore, the Department believes that initially an EA should be prepared to evaluate future location for the HS/RPS operations. Based on the analysis of potential environmental impacts in the EA, the Department will issue either a Finding of No Significant Impact or a NOI to prepare an EIS. The Department is inviting comments from the public and the Federal, State, Tribal, and local agencies on the consideration of future locations for these operations and scope of the EA. A preferred alternative would be identified in the draft EA after analysis of alternatives and consideration of the comments received during the scoping period.

DATES: The public scoping period begins with the publication of this Notice and will continue for 21 days. Comments received or postmarked by that date will be considered in the preparation of the EA. Comments postmarked after that date will be considered to the extent practicable.

ADDRESSES: The Department will conduct public meetings to solicit comments on the consideration of future locations for these operations and the scope of the EA as follows:

June 18, 2002—Washington, DC Metropolitan Area, 7:00pm to 9:00pm, Monroe/Arlington Rooms, Days Inn Crystal City, 2000 Jefferson Davis Highway, Arlington, VA.

June 20, 2002—Miamisburg, OH, 7:00pm to 9:00pm, Carnegie Center, Lower Level Room, 426 East Central Avenue, Miamisburg, OH.

June 24, 2002—Amarillo, TX, 7:00pm to 9:00pm, Oak Room, College Union Building, Washington Street Campus, Amarillo College, 24th and Jackson Streets, Amarillo, TX.

June 26, 2002-Idaho Falls, ID, 7:00pm to 9:00pm, Grand Teton Room, Shilo Inn, 780 Lindsay Boulevard, Idaho Falls, ID.

These meetings will also be advertised in the local media.

FOR FURTHER INFORMATION CONTACT: Please direct comments on the proposed relocation and scope of the EA, requests for copies of the EA, and questions concerning the project to: Mr. Timothy A. Frazier, U.S. Department of Energy, P.O. Box 66, Miamisburg, OH 45343-0066, Telephone: (937) 865-3748, Facsimile (937) 865-4489, Electronic mail: Tim.Frazier@hq.doe.gov. For general information on DOE's NEPA process, please contact Ms. Carol Borgstrom, Office of NEPA Policy and Compliance, U.S. Department of Energy, 1000 Independence Avenue, SW. Washington, DC 20585, telephone (202) 586-4600 or leave message at 1-(800) 472-2756.

SUPPLEMENTARY INFORMATION:

Background

DOE and its predecessor agencies have been developing HS/RPSs and supplying them to user agencies for more than 35 years. The radioisotope used in these systems is plutonium-238 (Pu-238), a non-fissile, non-weapons-usable form. A HS/RPS converts thermal energy that is generated by the spontaneous radioactive decay of Pu-238 to electrical energy. These systems have demonstrated their value as key technologies in various harsh, remote, and inaccessible environments, such as space, where it is impractical to provide the fuel and maintenance that conventional electrical power sources would need. The HS/RPS assembly and test operations have been conducted at the Department's Mound site for over 15 years. The HS/RPS assembly and test operations are contained in one building at the Mound site. The HSs are assembled in glove boxes (large enclosures that separate workers from equipment used to process hazardous and nuclear materials while allowing the workers to be in physical contact with the equipment) using parts manufactured or procured by the Mound site and encapsulated Pu-238 shipped from the Los Alamos National Laboratory in New Mexico. The RPSs are assembled in a large inert atmosphere chamber and then tested.

The Mound site was established in 1946 as the first permanent installation associated with the Atomic Energy Commission. Until the early 1990s, the Mound site manufactured critical nuclear weapons components. The site is currently being environmentally restored under a Comprehensive Environmental Response, Compensation and Liability Act Section 120 agreement. DOE plans to complete the environmental restoration and release the site for public use by February 2006. It is anticipated that the future use of the site will involve establishment of an industrial park.

Purpose and Need

It is DOE's responsibility to maintain the availability of HS/RPS for other Federal agencies, as needed. The radioisotope Pu-238 used in the assembly of HS/RPS is a special nuclear material requiring security and safeguards. As long as other programs requiring security and safeguards were also conducted the security costs at the site were spread among all such programs. However, once the site is cleaned up and released for public use, HS/RPS operations would be the only such DOE program remaining at the site, and all of the security costs would then have to be borne by that program. In 1999, the Department consolidated HS/RPS operations in a single building to minimize the security and safeguards costs. However, due to additional security measures for the special nuclear materials necessitated by the terrorist attacks of September 11, 2001, those costs have increased considerably. These security costs could render continuation of the program, as currently configured at the Mound site, impractical. Hence the Department proposes to evaluate modifications to its HS/RPS operations at the Mound site as well as alternative DOE sites which already have the added security/safeguards infrastructure in place for other ongoing programs and which would also have facilities suitable for the transfer of assembly and test operations for HS/RPSs.

The EA will analyze the potential environmental impacts associated with the HS/RPS operations at Mound and each of the alternative sites, including any other reasonable site(s) identified during scoping, as well as the transportation routes associated with alternative sites. The following issues have been tentatively identified for analysis in the EA: health and safety, waste management, pollution prevention, hazardous materials, radiation materials, water resources, air quality, earth resources, land use, infrastructure, transportation, noise, ecological resources, cultural resources, socioeconomics, and environmental justice. This list is neither intended to be all-inclusive nor is it a predetermination of potential environmental impacts. The list is presented to facilitate comment on the scope of the EA.

The purpose of this Notice is to encourage public involvement in the NEPA process and to solicit comments on the proposed scope of the EA and the potential environmental impacts of the alternatives. Comments will be considered in preparation of the EA, which is expected to be issued for public and agency comments in July 2002. The Department will finalize the EA and decide whether to issue a Finding of No Significant Impact or prepare an EIS.

Issued in Washington, DC, May 24, 2002.
William D. Magwood, IV,
Director, Office of Nuclear Energy, Science and Technology.

[FR Doc. 02-13648 Filed 5-30-02; 8:45 am]

BILLING CODE 6450-01-P